SMALL BUSINESS ADMINISTRATION

Reporting and Recordkeeping Requirements Under OMB Review

AGENCY: U.S. Small Business Administration.

ACTION: 30-Day notice.

SUMMARY: The Small Business Administration (SBA) is seeking approval from the Office of Management and Budget (OMB) for the information collection described below. In accordance with the Paperwork Reduction Act and OMB procedures, SBA is publishing this notice to allow all interested member of the public an additional 30 days to provide comments on the proposed collection of information.

DATES: Submit comments on or before July 8, 2024.

ADDRESSES: Written comments and recommendations for this information collection request should be sent within 30 days of publication of this notice to www.reginfo.gov/public/do/PRAMain. Find this particular information collection request by selecting “Small Business Administration”; “Currently Under Review,” then select the “Only Show ICR for Public Comment” checkbox. This information collection can be identified by title and/or OMB Control Number.

FOR FURTHER INFORMATION CONTACT: Specific 7(a) WCP policy questions should be directed to 7aWCP@sba.gov. For further information, contact Ginger Allen, Chief, 7(a) Loan Policy Division, Office of Financial Assistance, Office of Capital Access, Small Business Administration, at (202) 205-7110 or Ginger.Allen@sba.gov, or Daniel Pische, Director, International Trade Finance, Office of International Trade, Small Business Administration, at (202) 205-7119 or Daniel.Pische@sba.gov. The phone numbers above may also be reached by individuals who are deaf or hard of hearing, or who have speech disabilities, through the Federal Communications Commission's TTY-Based Telecommunications Relay Service teletype service at 711. Curtis B. Rich, Agency Clearance Officer curtis.rich@sba.gov 202-205-7030.

SUPPLEMENTARY INFORMATION: SBA is contemplating a new 7(a) Working Capital Pilot (WCP) Program within SBA's 7(a) Loan Programs. As part of the implementation plan for this program SBA has created a new addendum to SBA Form 1919, SBA Form 2534, “7(a) Working Capital Pilot Program Addendum to SBA Form 1919”, to collect specific Applicant business information for the 7(a) WCP Program when a Lender submits a 7(a) WCP application for guaranty. The collection of this information assists in identifying Applicant businesses applying for the 7(a) WCP Program and pertinent information applicable to the pilot program. The form is comprised of questions that help identify the delivery method(s) of the 7(a) WCP loan, gather data for asset-based 7(a) WCP loans regarding initial advance rates for accounts receivable and inventory, and whether 7(a) WCP loan proceeds will be used to refinance the Lender's same institution SBA Express loan(s). SBA Form 2534 must be completed by the Lender and the information from the form will be submitted to SBA electronically via SBA's electronic transmission (E-Tran) platform. Only one form will be submitted as part of an application. SBA expects most Lenders to collect the data through internal or third-party software platforms. Lenders must retain the form in the respective loan file.

Solicitation of Public Comments

Comments may be submitted on (a) whether the collection of information is necessary for the agency to properly perform its functions; (b) whether the burden estimates are accurate; (c) whether there are ways to minimize the burden, including through the use of automated techniques or other forms of information technology; and (d) whether there are ways to enhance the quality, utility, and clarity of the information.

Summary of Information Collection

PRA Number: 3245-.

Title: SBA Form 2534 “7(a) Working Capital Pilot Program Addendum to SBA Form 1919.”

Description of Respondents: SBA 7(a) Lenders processing WCP Program Loans.

Form Number: 2534.

Estimated Number of Respondents: 214.

Total Estimated Annual Responses: 214.

Total Estimated Annual Hour Burden: 17.83.

Curtis Rich,
Agency Clearance Officer.

[FR Doc. 2024-12467 Filed 6-6-24; 8:45 am]

BILLING CODE 8026-09-P